DEPARTMENT OF THE INTERIOR

National Park Service

30-Day Notice of Submission to the Office of Management and Budget (OMB); Opportunity for Public Comment

AGENCY: Department of the Interior, National Park Service.

ACTION: Notice and request for comments.

SUMMARY: Under provisions of the Paperwork Reduction Act of 1995 and 5 CFR part 1320, Reporting and Recordkeeping Requirements, the National Park Service (NPS) invites public comments on a proposed new collection of information (OMB #1024-XXXX).

DATES: Public comments on this Information Collection Request (ICR) will be accepted on or before May 19, 2008.

ADDRESSES: You may submit comments directly to the Desk Officer for the Department of the Interior (OMB #1024-XXXX), Office of Information and Regulatory Affairs, OMB, by fax at 202-395-6566, or by electronic mail at oira_docket@omb.eop.gov. Please also send a copy of your comments to Dr. Jane Swanson, Protected Areas Social Research Unit, College of Forest Resources, University of Washington, Seattle, WA 98195; or via phone at 206-685-9150; or via fax at 206-685-0790; or via e-mail at swansonj@u.washington.edu.

FOR FURTHER INFORMATION CONTACT: Dr. James Gramann, NPS Social Science Program, 1201 “Eye” St., Washington, DC 20005; or via phone 202-513-7189; or via e-mail James_Gramann@partner.nps.gov. You are entitled to a copy of the entire ICR package free-of-charge. You may access this ICR at http://www.reginfo.gov/public/.

Comments Received on the 60-Day Federal Register Notice: The NPS published a 60-Day Notice to solicit public comments on this ICR entitled “Research Assessing Current and Potential Impacts of Cruise Ships on Visitor Experiences in Glacier Bay National Park and Preserve” in the Federal Register on November 5, 2007 (72 FR 62489-62490). The comment period closed on January 4, 2007. After multiple notifications to stakeholders requesting comments, the NPS received four comments as a result of the publication of this 60-Day Federal Register Notice.

We received four public comments on the proposed visitor study in Glacier Bay National Park and Preserve (GLBA). All of these comments were based only on the information included in the 60-day notice. Two comments were from charter operators who have agreements with GLBA. The first of these indicated that interviewing of charter operators and other gatekeepers is critical in order to get a complete picture as many of their clients are unaware of actions the operators take to avoid cruise ships at critical points in the itinerary. She further stated she was not opposed to cruise ships, appreciated the balance the park was working to achieve, and appreciated the opportunity to have the operators' voice heard. The comment was addressed in a reply e-mail acknowledging her understanding of the gatekeeper interview component of the proposed research, attaching the proposed interview guide, and offering to send the complete work plan and questionnaires if she desired.

The second comment, received from another charter operator, indicated feeling overwhelmed by cruise ships not in GLBA, but everywhere else in Southeast Alaska. He believes the park does a good job managing vessels within park waters. His concern is with other areas of development in Hobart Bay and Tracy Arm and he sent a description of the development planned for Hobart Bay. The comment was addressed in a reply email thanking him for sharing his experience and concerns with cruise ships in Southeast Alaska, as it helps project staff understand the broader context of the proposed project. An offer to send the complete work plan and questionnaires was accepted, the information was sent, and no further comment has been received.

The other two comments were on behalf of cruise ship companies. The first of these comments was sent from John Shively, Vice President—Government and Community Relations, Holland America Line. The comment indicated a need for more information regarding the survey methods and a desire to review them and the survey instruments. Additionally the comment noted that the company was unaware that cruise ship size was an issue the National Park Service desired to study. The comment was addressed in a reply e-mail thanking him for his comments and interest in the project and included the complete work plan and survey instruments for review. A return e-mail indicated that he would review the documents upon his return from a 10-day trip.

The second cruise ship company comment was from Charlie Bell, President, Princess Cruises, and primarily indicated concerns about survey methods because of the limited scope of the summary included in the 60-day notice. The comment was addressed by an email reply that thanked him for his comments and interest in the research and included the complete work plan and survey instruments. No further comment has been received.

SUPPLEMENTARY INFORMATION:

Title: Research Assessing Current and Potential Impacts of Cruise Ships on Visitor Experiences in Glacier Bay National Park and Preserve.

Bureau Form Number(s): None.

OMB Number: To be requested.

Expiration Date: To be requested.

Type of Request: New collection.

Description of Need: The proposed study would provide information to be used in deciding cruise ship use levels in Glacier Bay National Park. The purpose of this research is to provide Park managers with information about current impacts of cruise ships, if any, on the quality of visitor experience and to estimate potential impacts on the quality of visitor experience for cruise ship use levels specified in the Record of Decision (Record of Decision for Vessel Quotas and Operating Requirements in Glacier Bay National Park and Preserve, 2003).

The Final Environmental Impact Statement for Vessel Quotas and Operating Requirements, and the resulting Record of Decision signed November 21, 2003, currently guide vessel management in Glacier Bay National Park and Preserve (GLBA). The Record of Decision adopted an alternative that maintains the current daily maximum of two cruise ships in the park and sets seasonal use days for the June-August season at 139 ships. The Record of Decision also provides for possible increases in cruise ship use. Specifically, use in the June-August season could be increased to two ships per day, every day, for a seasonal use total of 184 ships. The Record of Decision provided the following direction for the role of research in the process of changing quotas for cruise ships:

The determination of whether to increase seasonal-use day quotas for cruise ships will rely on criteria that define the environmental and social conditions to be met before any additional seasonal-use days are approved. These criteria will be based on the results of and guidance provided through studies that examine the effects of vessels on all park resources and visitor experience. (p. 18.)

The Record of Decision also specified that the studies examining the effects of cruise ships would be identified with the assistance of a Glacier Bay Vessel Management Science Advisory Board (SAB). The SAB was established and a final report of its findings and recommendations was published in September 2005. The SAB recommended a comprehensive research program that was presented in general terms with no prioritization or cost estimates. Because the research program outlined in the SAB could not be performed within the time and budget limitations facing park managers, the SAB recommended (and park managers agreed to fund) a social research problem analysis. Upon review of the final Problem Analysis, park staff decided on a research program that would focus primarily on measuring impacts of cruise ships, if any, on the quality of visitor experience and secondarily on understanding the context in which cruise ship impacts occur and how these impacts arise. To accomplish these objectives, this proposed research includes the following components: (1) Assessment of cruise ship impacts, if any, on the quality of visitor experience, and (2) The role of experience gatekeepers in visitor encounters with cruise ships.

1. Assessing Impacts of Cruise Ships, if Any, on the Quality of Visitor Experiences in Glacier Bay Proper

The purpose of the proposed study is to provide park managers with information about a variety of potential impacts of cruise ships on all visitor groups that have potential to encounter a cruise ship in Glacier Bay proper. Information about impacts of other mechanized transport, if any, on the quality of visitor experience will also be collected (1) to provide a context for understanding the role of cruise ships on the quality of visitor experience and (2) to examine aggregate effects of mechanized transport on the quality of visitor experience. This research, proposed for the 2008 summer season, will use on-site and mail questionnaires to gather data for estimating impact rates for different user groups. Additionally, in-depth interviews with visitors will provide additional information about how these impacts arise and visitors' opinions of the appropriateness of cruise ships in Glacier Bay proper.

2. The Role of Experience Gatekeepers in Visitor Encounters With Cruise Ships

Discussions with experience providers indicate that these individuals may adjust itineraries in an effort to provide visitors with a particular experience. Often that experience is one where few other vessels are encountered. Understanding these practices and how the increase in 2-cruise-ship days may affect them are the primary objectives of this research component. This information will be integral when estimating population impacts under the 2-cruise-ships every day scenario. Gatekeepers identified include charter and tour boat captains, kayak guides, and VIS staff who issue permits and provide guidance to kayakers and captains of private vessels. Interviews, to be conducted during the summer 2008 use season, will rely on an open-ended, in-depth process. The obligation to respond is voluntary.

Automated data collections: This information will be collected via in-person interviews and surveys and mail-back surveys. No automated data collection will take place.

Description of respondents: Component 1—survey and interviews: Cruise ship passengers, tour boat passengers, charter boat passengers, people entering on private vessel permits, and people entering on backcountry permits who visit Glacier Bay proper between June 1, 2008, and August 31, 2008. Component 1—itinerary data: Charter and tour boat captains and kayak guides who serve visitors included in the survey component of the project. Component 2: Charter and tour boat captains, kayak guides, and VIS staff who serve visitors to Glacier Bay proper during the 2008 summer season.

Estimated average number of respondents: Component 1: 2800 respondents for on-site survey; 1960 respondents for mail survey; 100 respondents for interviews; 24 respondents for itinerary data. Component 2: 27 interview respondents. Non-respondents: 1305 (component 1: 460 on-site, 842 mail-back; component 2: 3 on-site)

Estimated average number of responses: Component 1: 2800 responses for on-site survey, 1960 responses for mail survey; 100 responses for interview. Component 2: 27 interview responses. Non-responses: 1305 (component 1: 460 on-site, 842 mail-back; component 2: 3 on-site).

Estimated average burden hours per response: Component 1: 3 minutes for on-site survey respondents; 25 minutes for mail questionnaire; 30 minutes for interview respondents. Component 2: 15 minutes. Non-respondent: 1 minute for on-site; 3 minutes for mail-back.

Frequency of Response: 1 time per respondent.

Estimated total annual reporting burden: 1,064 hours.

Comments are invited on: (1) The practical utility of the information being gathered; (2) the accuracy of the burden hour estimate; (3) ways to enhance the quality, utility, and clarity of the information being gathered; and (4) ways to minimize the burden to respondents, including use of automated information collection techniques or other forms of information. Before including your address, phone number, e-mail address, or other personal identifying information in your comment, you should be aware that your entire comment—including your personal identifying information—may be made publicly available at any time. While you can ask OMB in your comment to withhold your personal identifying information from public review, we cannot guarantee that we will be able to do so.

Dated: April 9, 2008.
Leonard E. Stowe,
NPS, Information Collection Clearance Officer.

[FR Doc. E8-8137 Filed 4-16-08; 8:45 am]

BILLING CODE 4312-52-M